NUCLEAR REGULATORY COMMISSION

[NRC-2022-0136]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by August 15, 2022. A request for a hearing or petitions for leave to intervene must be filed by September 13, 2022. This monthly notice includes all amendments issued, or proposed to be issued, from May 26, 2022, to June 23, 2022. The last monthly notice was published on May 25, 2022.

ADDRESSES: You may submit comments by any of the following methods; however, the NRC encourages electronic comment submission through the Federal rulemaking website:

• Federal rulemaking website: Go to https://www.regulations.gov and search for Docket ID NRC-2022-0136. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001, telephone: 301-415-1118, email: Karen.Zeleznock@nrc.gov.

SUPPLEMENTARY INFORMATION:

I. Obtaining Information and Submitting Comments

A. Obtaining Information

Please refer to Docket ID NRC-2022-0136, facility name, unit number(s), docket number(s), application date, and subject when contacting the NRC about the availability of information for this action. You may obtain publicly available information related to this action by any of the following methods:

• Federal Rulemaking Website: Go to https://www.regulations.gov and search for Docket ID NRC-2022-0136.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0136, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with section 50.91 of title 10 of the Code of Federal Regulations (10 CFR), are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's public website at https://www.nrc.gov/reading-rm/doc-collections/cfr. If a petition is filed, the Commission or a presiding officer will rule on the petition and, if appropriate, a notice of a hearing will be issued.

As required by 10 CFR 2.309(d) the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9:00 a.m. and 6:00 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

Omaha Public Power District; Fort Calhoun Station Unit No. 1; Washington County, NE
Docket No | 50-285.
Application date | August 3, 2021, as supplemented by letter dated January 13, 2022.
ADAMS Accession No | ML21271A178 (Package), ML22034A559.
Location in Application of NSHC | Enclosure 1—Pages 13-15.
Brief Description of Amendment | The proposed amendment would approve the License Termination Plan (LTP) and add a license condition that would establish the criteria for determining when changes to the LTP require prior NRC approval.
Proposed Determination | NSHC.
Name of Attorney for Licensee, Mailing Address | Stephen M. Bruckner, Attorney, Fraser Stryker PC LLO, 500 Energy Plaza, 409 South 17th Street, Omaha, NE 68102.
NRC Project Manager, Telephone Number | Jack Parrott, 301-415-6634.
Constellation Energy Generation, LLC; Clinton Power Station, Unit 1; DeWitt County, IL
Docket No | 50-461.
Application date | May 24, 2022.
ADAMS Accession No | ML22144A236.
Location in Application of NSHC | Pages 3-5 of Attachment 1.
Brief Description of Amendment | The proposed change would adopt Technical Specification Task Force Traveler 269-A, Revision 2, “Allow Administrative Means of Position Verification for Locked or Sealed Valves.” Specifically, the proposed change would modify technical specifications requirements for repetitive verification of the status of locked, sealed, or secured, components to allow the verification to be by administrative means.
Proposed Determination | NSHC.
Name of Attorney for Licensee, Mailing Address | Jason Zorn, Associate General Counsel, Constellation Energy Generation, 101 Constitution Ave NW, Washington, DC 20001.
NRC Project Manager, Telephone Number | Joel Wiebe, 301-415-6606.
Constellation Energy Generation, LLC; Clinton Power Station, Unit 1; DeWitt County, IL
Docket No | 50-461.
Application date | May 24, 2022.
ADAMS Accession No | ML22144A224.
Location in Application of NSHC | Pages 4-6 of Attachment 1.
Brief Description of Amendment | The proposed change would adopt Technical Specification Task Force Traveler 230-A, Revision 1, “Add New Condition B to LCO [Limiting Condition for Operation] 3.6.2.3, RHR [Residual Heat Removal] Suppression Pool Cooling.” Specifically, the proposed change would modify Technical Specifications 3.6.2.3, “Residual Heat Removal (RHR) Suppression Pool Cooling,” to allow two RHR suppression pool cooling subsystems to be inoperable for 8 hours.
Proposed Determination | NSHC.
Name of Attorney for Licensee, Mailing Address | Jason Zorn, Associate General Counsel, Constellation Energy Generation, 101 Constitution Ave. NW, Washington, DC 20001.
NRC Project Manager, Telephone Number | Joel Wiebe, 301-415-6606.
Dominion Energy Nuclear Connecticut, Inc.; Millstone Power Station, Units 2 and 3; New London County, CT
Docket Nos | 50-336, 50-423.
Application date | April 6, 2022.
ADAMS Accession No | ML22096A221.
Location in Application of NSHC | Attachment 1, Pages 3-4.
Brief Description of Amendments | The proposed amendments would modify technical specification requirements for mode change limitations in Limiting Condition for Operation 3.0.4 and Surveillance Requirement 4.0.4 applicable to the adoption of Technical Specifications Task Force (TSTF) Traveler 359, “Increase Flexibility in Mode Restraints,” Revision 9 (ADAMS Accession No ML031190607). The availability of TSTF-359 for adoption by licensees was announced in the Federal Register on April 4, 2003 (68 FR 16579) as part of the consolidated line item improvement process.
Proposed Determination | NSHC.
Name of Attorney for Licensee, Mailing Address | W.S. Blair, Senior Counsel, Dominion Resource Services, Inc., 120 Tredegar St., RS-2, Richmond, VA 23219.
NRC Project Manager, Telephone Number | Richard Guzman, 301-415-1030.
Duke Energy Progress, LLC; H. B. Robinson Steam Electric Plant, Unit No. 2; Darlington County, SC
Docket No | 50-261.
Application date | April 28, 2022.
ADAMS Accession No | ML22118A367.
Location in Application of NSHC | Pages 9-10 of Enclosure.
Brief Description of Amendment | The proposed amendment would revise Surveillance Requirement 3.8.1.16 for Technical Specification 3.8.1, “AC [alternating current] Sources-Operating,” to remove 4.160 kilovolt bus 2 from the requirement to verify automatic transfer capability from the Unit auxiliary transformer to the start up transformer.
Proposed Determination | NSHC.
Name of Attorney for Licensee, Mailing Address | Kathryn B. Nolan, Deputy General Counsel, Duke Energy Corporation, 550 South Tryon Street (DEC45A), Charlotte, NC 28202.
NRC Project Manager, Telephone Number | Luke Haeg, 301-415-0272.
Energy Harbor Nuclear Corp. and Energy Harbor Nuclear Generation LLC; Beaver Valley Power Station, Unit Nos. 1 and 2; Beaver County, PA
Docket Nos | 50-334, 50-412.
Application date | May 16, 2022.
ADAMS Accession No | ML22137A049.
Location in Application of NSHC | Attachment 1, Pages 39-40.
Brief Description of Amendments | The proposed amendment would create a new technical specification (TS) limiting condition for operation (LCO) that restricts movement involving fuel or over fuel that has occupied part of a critical reactor core within the previous 100 hours. Current TS restrictions would be consolidated in the new LCO.
Proposed Determination | NSHC.
Name of Attorney for Licensee, Mailing Address | Rick Giannantonio, General Counsel, Energy Harbor Nuclear Corp., 168 E Market Street Akron, OH 44308-2014.
NRC Project Manager, Telephone Number | Brent Ballard, 301-415-0680.
Energy Harbor Nuclear Corp. and Energy Harbor Nuclear Generation LLC; Perry Nuclear Power Plant, Unit No. 1; Lake County, OH
Docket No | 50-440.
Application date | April 7, 2021, as supplemented by letters dated August 17, 2021, and June 1, 2022.
ADAMS Accession No | ML21106A027 (Package), ML21237A075, ML22152A180.
Location in Application of NSHC | Pages 1 and 2 of Attachment 3 to June 1, 2022, supplement.
Brief Description of Amendment | The proposed amendment would add a new Technical Specification 3.7.11, “Flood Protection,” and would revise the Updated Safety Analysis Report to change the methodology used for analysis of flooding hazards and drainage within the local intense precipitation domain and would reflect the results from the new analysis. Based on the new analysis, a new flood hazard protection scheme is also proposed for Perry Nuclear Power Plant, Unit 1. The supplemental letter dated June 1, 2022, provided additional information that expanded the scope of the application as originally published in the Federal Register on July 6, 2021 (86 FR 35547). The previously provided no significant hazards consideration included a statement that there are no technical specification changes associated with the request. Because that is no longer the case, the updated no significant hazards consideration supersedes the one previously published.
Proposed Determination | NSHC.
Name of Attorney for Licensee, Mailing Address | Rick Giannantonio, General Counsel, Energy Harbor Nuclear Corp., 168 E Market Street Akron, OH 44308-2014.
NRC Project Manager, Telephone Number | Scott Wall, 301-415-2855.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS
Docket Nos | 50-416, 50-458.
Application date | May 26, 2022.
ADAMS Accession No | ML22146A189.
Location in Application of NSHC | Pages 2, 3, and 4 of the Enclosure.
Brief Description of Amendments | The proposed amendments would revise technical specifications (TSs) to adopt Technical Specifications Task Force (TSTF) Traveler TSTF-580, “Provide Exception from Entering MODE 4 With No Operable RHR [Residual Heat Removal] Shutdown Cooling,” for Grand Gulf Nuclear Station, Unit 1, and River Bend Station, Unit 1, using the consolidated line item process. The proposed change would provide a TS exception to entering Mode 4 if both RHR shutdown cooling subsystems are inoperable. The model safety evaluation for TSTF-580 was approved by the NRC in a letter dated July 11, 2021 (ML21188A283 (Package)).
Proposed Determination | NSHC.
Name of Attorney for Licensee, Mailing Address | Anna Vinson Jones, Assistant General Counsel, Entergy Services, Inc.,101 Constitution Avenue NW, Suite 200 East, Washington, DC 20001.
NRC Project Manager, Telephone Number | Siva Lingam, 301-415-1564.
Northern States Power Company—Minnesota; Prairie Island Nuclear Generating Plant, Units 1 and 2; Goodhue County, MN
Docket Nos | 50-282, 50-306.
Application date | June 7, 2022.
ADAMS Accession No | ML22158A090.
Location in Application of NSHC | Pages 2 and 3 of Enclosure.
Brief Description of Amendments | The amendment request would modify the Prairie Island Nuclear Generating Plant, Units 1 and 2, technical specifications to adopt Technical Specifications Task Force (TSTF) Traveler TSTF-577, “Revised Frequencies for Steam Generator Tube Inspections.”.
Proposed Determination | NSHC.
Name of Attorney for Licensee, Mailing Address | Peter M. Glass, Assistant General Counsel, Xcel Energy, 414 Nicollet Mall—401-8, Minneapolis, MN 55401.
NRC Project Manager, Telephone Number | Robert Kuntz, 301-415-3733.
Southern Nuclear Operating Company, Inc.; Edwin I. Hatch Nuclear Plant, Units 1 and 2; Appling County, GA
Docket Nos | 50-321, 50-366.
Application date | March 25, 2022, as supplemented by letter dated May 17, 2022.
ADAMS Accession No | ML22087A169, ML22137A001.
Location in Application of NSHC | Pages E1-4 to E1-6 of Enclosure 1.
Brief Description of Amendments | Southern Nuclear Operating Company (SNC) requests adoption of Technical Specifications Task Force (TSTF) Traveler TSTF-208, Revision 0, “Extension of Time to Reach Mode 2 in LCO 3.0.3.” Specifically, the amendment would propose to extend the allowed time to reach Mode 2 in LCO 3.0.3 from 7 hours to 10 hours. In addition, SNC requests an administrative change for deletion of a duplicate TS 3.4.10, on TS Page 3.4-25 of each unit's TS.
Proposed Determination | NSHC.
Name of Attorney for Licensee, Mailing Address | Millicent Ronnlund, Vice President and General Counsel, Southern Nuclear Operating Co., Inc., P.O. Box 1295, Birmingham, AL 35201-1295.
NRC Project Manager, Telephone Number | Dawnmathews Kalathiveettil, 301-415-5905.
Susquehanna Nuclear, LLC and Allegheny Electric Cooperative, Inc.; Susquehanna Steam Electric Station, Units 1 and 2; Luzerne County, PA
Docket Nos | 50-387, 50-388.
Application date | March 31, 2022.
ADAMS Accession No | ML22090A058.
Location in Application of NSHC | Enclosure 1, Pages 4-6.
Brief Description of Amendments | The proposed amendments would remove specific minimum qualification requirements for unit staff from the administrative controls technical specifications (TS), would relocate those qualifications to the Quality Assurance Program (QAP), and would revise the TS to refer to the QAP for the minimum qualification requirements.
Proposed Determination | NSHC.
Name of Attorney for Licensee, Mailing Address | Damon D. Obie, Esq, 835 Hamilton St., Suite 150, Allentown, PA 18101.
NRC Project Manager, Telephone Number | Audrey Klett, 301-415-0489.
TMI-2 Solutions, LLC; Three Mile Island Unit 2; Londonderry Township, Dauphin County, PA
Docket No | 50-320.
Application date | October 5, 2021, as supplemented by letter dated December 15, 2021.
ADAMS Accession No | ML21279A278, ML21354A027.
Location in Application of NSHC | Attachment 1 of the October 5, 2021, application.
Brief Description of Amendment | The subject application is for approval of partial exemptions requests and an associated conforming amendment required to reflect specific associated changes in the technical specifications should the NRC approve the partial exemption request.
Proposed Determination | NSHC.
Name of Attorney for Licensee, Mailing Address | Russ Workman, General Counsel, EnergySolutions, 299 South Main Street, Suite 1700, Salt Lake City, UT 84111.
NRC Project Manager, Telephone Number | Amy Snyder, 301-415-6822.
Virginia Electric and Power Company; Surry Power Station, Units 1 and 2; Surry County, VA
Docket Nos | 50-280, 50-281.
Application date | April 14, 2022, as supplemented by letter dated May 11, 2022.
ADAMS Accession No | ML22104A125, ML22131A326.
Location in Application of NSHC | Attachment 1, Section 4.2.
Brief Description of Amendments | These amendments would propose a change to designate the Turbine Building as a tornado-resistant structure in the Surry Units 1 and 2, Updated Final Safety Analysis Report under a different methodology and acceptance criteria than those defined for the other Surry Units 1 and 2 tornado-resistant structures.
Proposed Determination | NSHC.
Name of Attorney for Licensee, Mailing Address | W.S. Blair, Senior Counsel, Dominion Resource Services, Inc., 120 Tredegar St., RS-2, Richmond, VA 23219.
NRC Project Manager, Telephone Number | John Klos, 301-415-5136.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

Arizona Public Service Company, et al; Palo Verde Nuclear Generating Station, Units 1, 2, and 3; Maricopa County, AZ
Docket No | 50-528, 50-529, 50-530.
Amendment Date | June 10, 2022.
ADAMS Accession No | ML22152A234.
Amendment Nos | 218 (Unit 1), 218 (Unit 2), and 218 (Unit 3).
Brief Description of Amendments | The amendments revised the technical specifications to remove requirements that only apply to Class 1E buses with a single stage time delay for degraded voltage relays (DVRs) and an inverse time delay for the loss of voltage relays (LVRs). The requirements are no longer applicable since modifications to DVRs and LVRS, approved in License Amendment 201 (ML17090A164), have been completed. The changes also made associated editorial changes and corrected a typographical error.
Public Comments Received as to Proposed NSHC (Yes/No) | No.
Constellation Energy Generation, LLC; Three Mile Island Nuclear Station, Unit 1; Dauphin County, PA
Docket No | 50-289.
Amendment Date | June 7, 2022.
ADAMS Accession No | ML22074A131.
Amendment No. | 305.
Brief Description of Amendment | The NRC issued an amendment to implement a revision to the Three Mile Island Station, Unit 1 (TMI-1) Physical Security Plan. The revised plan reflects the requirements associated with physical security necessary for the independent spent fuel storage installation (ISFSI)-only configuration, consistent with the permanent removal of all spent fuel from the TMI-1 spent fuel pools. The amendment is effective upon written notice that all the spent fuel is in the ISFSI and TMI-1 has 90 days for implementation.
Public Comments Received as to Proposed NSHC (Yes/No) | No.
Constellation Energy Generation, LLC; Three Mile Island Nuclear Station, Unit 1; Dauphin County, PA
Docket No | 50-289.
Amendment Date | April 7, 2022.
ADAMS Accession No | ML22074A024 (Package).
Amendment No. | 303.
Brief Description of Amendment | NRC issued an amendment to Renewed Facility License No. DPR-50 for Three Mile Island (TMI), Unit 1. The amendment revises the Three Mile Island (TMI) Station Emergency Plan and Emergency Action Level scheme for the permanently defueled condition after all irradiated fuel has been transferred from the Spent Fuel Pools (SFPs) to the Independent Spent Fuel Storage Installation (ISFSI). The amendment is effective upon NRC receipt of written notification from Constellation Energy Generation that all spent fuel is in dry storage located onsite at the ISFSI and shall be implemented within 90 days of the effective date. Upon implementation the licensee is allowed to make specific reductions in the size and makeup of the Emergency Response Organization.
Public Comments Received as to Proposed NSHC (Yes/No) | No.
Constellation Energy Generation, LLC; Three Mile Island Nuclear Station, Unit 1; Dauphin County, PA
Docket No | 50-289.
Amendment Date | April 19, 2022.
ADAMS Accession No | ML22081A229 (Package).
Amendment No. | 304.
Brief Description of Amendment | The NRC has issued the enclosed Amendment No. 304 to Renewed Facility Operating License (RFOL) No. DPR-50 for Three Mile Island, Unit 1 (TMI-1), operated by Constellation Energy Generation, LLC. The amendment consists of revisions to the Renewed Facility Operating License and the technical specifications (TSs) in response to the amendment request dated December 16, 2020 (ADAMS Accession NoML20351A451), as supplemented on March 28, 2022 (ADAMS Accession NoML22087A394). These revisions reflect the removal of all spent nuclear fuel from the TMI-1 spent fuel pools (SFPs) and its transfer to dry cask storage within an onsite Independent Spent Fuel Storage Installation (ISFSI). These changes will more fully reflect the permanently shut down status of the decommissioning facility, as well as the reduced scope of structures, systems, and components necessary to ensure plant safety once all spent fuel has been permanently moved to the TMI-1 ISFSI, an activity which is currently scheduled for completion by July 2022. The proposed changes also include the relocation of administrative controls from the TS to the TMI-1 Decommissioning Quality Assurance Program as well as deletion of the remaining TS Bases, except for certain environmental reporting requirements which are required to remain in the TS in accordance with 10 CFR 50.36a(a)(2).
Public Comments Received as to Proposed NSHC (Yes/No) | No.
Constellation FitzPatrick, LLC and Constellation Energy Generation, LLC; James A. FitzPatrick Nuclear Power Plant; Oswego County, NY
Docket No | 50-333.
Amendment Date | May 27, 2022.
ADAMS Accession No | ML22126A196.
Amendment No. | 350.
Brief Description of Amendment | The amendment revised the technical specifications to adopt Technical Specification Task Force 264-A, Revision 0, “3.3.9 and 3.3.10-Delete Flux Monitors Specific Overlap Requirement SR [Surveillance Requirements].” Specifically, the amendment revised Technical Specification 3.3.1.1, “RPS Instrumentation,” by deleting Surveillance Requirements 3.3.1.1.5 and 3.3.1.1.6, which verify the overlap between the source range monitor and the intermediate range monitor, and between the intermediate range monitor and the average power range monitor. The surveillance functions will still be performed by the associated CHANNEL CHECK in Surveillance Requirement 3.3.1.1.1.
Public Comments Received as to Proposed NSHC (Yes/No) | No.
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; H. B. Robinson Steam Electric Plant, Unit No. 2; Darlington County, SC
Docket No | 50-413, 50-414, 50-369, 50-370, 50-269, 50-270, 50-287, 50-261.
Amendment Date | June 14, 2022.
ADAMS Accession No | ML22046A022.
Amendment Nos | 312 (Catawba Unit 1), 308 (Catawba Unit 2), 322 (McGuire Unit 1), 301 (McGuire Unit 2), 423 (Oconee Unit 1), 425 (Oconee Unit 2), 424 (Oconee Unit 3), 270 (Robinson Unit 2).
Brief Description of Amendments | The amendments deleted the second Completion Times from the affected Required Actions contained in technical specifications (TSs), removed the example contained in TS Section 1.3, and added a discussion about alternating between Conditions. These changes were consistent with Technical Specification Task Force (TSTF) Traveler TSTF-439, Revision 2, “Eliminate Second Completion Times Limiting Time from Discovery of Failure to Meet an LCO [Limiting Condition for Operation].”.
Public Comments Received as to Proposed NSHC (Yes/No) | No.
Entergy Operations, Inc.; Arkansas Nuclear One, Unit 1; Pope County, AR
Docket No | 50-313.
Amendment Date | June 23, 2022.
ADAMS Accession No | ML22138A431.
Amendment No. | 277.
Brief Description of Amendment | The amendment modified the licensing basis by the addition of a license condition to allow for the implementation of the provisions of 10 CFR 50.69, “Risk-informed categorization and treatment of structures, systems and components for nuclear power reactors.”.
Public Comments Received as to Proposed NSHC (Yes/No) | No.
Entergy Operations, Inc.; Waterford Steam Electric Station, Unit 3; St. Charles Parish, LA
Docket No | 50-382.
Amendment Date | May 27, 2022.
ADAMS Accession No | ML22145A015.
Amendment No | 266.
Brief Description of Amendment | The amendment revised the current instrumentation testing definitions of channel calibration and channel functional test to permit determination of the appropriate frequency to perform the surveillance requirement based on the devices being tested in each step. The changes are based on Technical Specifications Task Force (TSTF) Traveler TSTF-563, Revision 0, “Revise Instrument Testing Definitions to Incorporate the Surveillance Frequency Control Program.”.
Public Comments Received as to Proposed NSHC (Yes/No) | No.
Florida Power & Light Company; Turkey Point Nuclear Generating Unit Nos. 3 and 4; Miami-Dade County, FL
Docket No | 50-250, 50-251.
Amendment Date | May 24, 2022.
ADAMS Accession No | ML22028A066.
Amendment Nos. | 296, 289.
Brief Description of Amendments | The amendments revised the Turkey Point Technical Specification (TS) 6.9.1.7 to reflect the adoption of topical report WCAP-16996-P-A, Revision 1, “Realistic LOCA [loss-of-coolant accident] Evaluation Methodology Applied to the Full Spectrum of Break Sizes (Full Spectrum LOCA Methodology),” (Reference 3) as a reference in the Core Operating Limits Report (COLR). The added reference identified the analytical method used to determine the core operating limits for the large break LOCA (LBLOCA) and the small break LOCA (SBLOCA) events described in the Turkey Point Updated Final Safety Analysis Report Sections 14.3.2.1 and 14.3.2.2, respectively. The proposed amendments also deleted references 1 through 6 in the TS 6.9.1.7 COLR list of analytical methods.
Public Comments Received as to Proposed NSHC (Yes/No) | No.
Indiana Michigan Power Company; Donald C. Cook Nuclear Plant, Unit No. 2; Berrien County, MI
Docket No | 50-316.
Amendment Date | June 8, 2022.
ADAMS Accession No | ML22055A001.
Amendment No. | 341.
Brief Description of Amendment | The amendment revised the Donald C. Cook Nuclear Plant, Unit No. 2 technical specifications (TSs) to replace the current pressure temperature limits for the reactor coolant system (RCS) in TS 3.4.3, “RCS Pressure and Temperature (P/T) Limits,” which are applicable for a service period up to 32 effective full power years (EFPY), with limits that extend up to 48 EFPY. In addition, the amendment revised TS 3.4.12, “Low Temperature Overpressure Protection (LTOP) System,” to align with an updated LTOP analysis. The proposed changes to the LTOP requirements in TS 3.4.12 resulted in changes to TS 3.4.6, “RCS Loops MODE 4”; TS 3.4.7, “RCS Loops—MODE 5, Loops Filled”; and TS 3.4.10, “Pressurizer Safety Valves.”.
Public Comments Received as to Proposed NSHC (Yes/No) | No.
Indiana Michigan Power Company; Donald C. Cook Nuclear Plant, Unit Nos. 1 and 2; Berrien County, MI
Docket No | 50-315, 50-316.
Amendment Date | June 21, 2022.
ADAMS Accession No | ML22046A233.
Amendment Nos | 360 (Unit 1) and 342 (Unit 2).
Brief Description of Amendments | The amendments revised the Bases for Technical Specifications (TS) 3.3.3, “Post Accident Monitoring (PAM) Instrumentation.” The change to the TS Bases would allow one channel of TS 3.3.3, “Post Accident Monitoring (PAM) Instrumentation,” Function 7, Containment Water Level, to be satisfied by a train of two operable containment water level switches in the event that both containment water level channels become inoperable. This alternate method of satisfying containment water level channel requirements are limited to the remaining duration of the operating cycle each time it is invoked. In addition, a note is added to TS 3.3.3 to reflect this Bases change.
Public Comments Received as to Proposed NSHC (Yes/No) | No.

Dated: July 7, 2022.
For the Nuclear Regulatory Commission.
Jacob I. Zimmerman,
Acting Deputy Director, Division of Operating Reactor Licensing, Office of Nuclear Reactor Regulation.

[FR Doc. 2022-14819 Filed 7-14-22; 8:45 am]

BILLING CODE 7590-01-P